DEPARTMENT OF LABOR

Office of the Secretary

Submission for OMB Review; Comment Request

May 14, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Job Corps Health Questionnaire.

OMB Number: 1205-0033.

Frequency: Other; Once.

Affected Public: Individuals or households; Business or other for-profit; Not-for-profit institutions; Federal Government; and State, Local, or Tribal government.

Number of Respondents: 102,833.

Number of Annual Responses: 102,833.

Estimated Time Per Response: 5 minutes.

Total Burden Hours: 8,569.

Total annualized capital/startup costs: $0.

Total annual costs (operating/maintaining systems or purchasing services): $0.

Description: Applicants wishing to enroll in the Job Crops program must first be deemed eligible based on the eligibility criteria as defined in 20 CFR 670.400 and then selected based on the additional selection factors in 20 CFR 670.410. This admission process is carried out by admission counselors. The information on the ETA 6-53 is collected by the admissions counselors to enable the centers to determine the health needs of the applicant. After the admission counselors have determine eligibility and the applicant has been selected for assignment into the Job Cops program, the applicant completes the form, and sends it with the admission packet to the Job Crops center for review.

Ira L. Mills,
Departmental Clearance Officer.

[FR Doc. 04-11384 Filed 5-19-04; 8:45 am]

BILLING CODE 4510-30-P